SMALL BUSINESS ADMINISTRATION

[License No. 10/10-0194]

Bancshares Capital, L.P.; Notice of Surrender Under 13 CFR 107.1900

Pursuant to the authority granted to the United States Small Business Administration under the Small Business Investment Act of 1958, under section 309 of the Act and Section 13 CFR 107.1900 of the Small Business Administration Rules and Regulations Bancshares Capital, L.P., 16118 72nd Avenue West, Edmonds, Washington, 98026 (License number 10/10-0194), licensed September 28, 2000 as a Small Business Investment Company (SBIC), has surrendered; its license is hereby declared null and void.

Date: June 6, 2010.
Sean J. Greene,
Associate Administrator for Investment.

[FR Doc. 2011-650 Filed 1-12-11; 8:45 am]

BILLING CODE 8025-01-P